DEPARTMENT OF COMMERCE

Patent and Trademark Office

[Docket No. PTO-C-2019-0038]

Request for Comments on Intellectual Property Protection for Artificial Intelligence Innovation

AGENCY: United States Patent and Trademark Office, Department of Commerce.

ACTION: Request for comments; extension of comment period.

SUMMARY: The United States Patent and Trademark Office (USPTO) published a request for comments in the Federal Register on October 30, 2019, seeking public comment on the impact of artificial intelligence (“AI”) technologies on intellectual property law and policy. Through this notice, the USPTO is extending the period for public comment until January 10, 2020.

DATES: Written comments must be received on or before January 10, 2020.

ADDRESSES: Written comments should be sent by email to AIPartnership@uspto.gov. Comments may also be submitted by postal mail addressed to the Director of the U.S. Patent and Trademark Office, P.O. Box 1450, Alexandria, VA 22313-1450. Although comments may be submitted by postal mail, the USPTO prefers to receive comments via email.

Because written comments and testimony will be made available for public inspection, information that a respondent does not desire to be made public, such as a phone number, should not be included in the testimony or written comments.

FOR FURTHER INFORMATION CONTACT: Coke Stewart, Office of the Under Secretary and Director of the USPTO, (571) 272-8600.

SUPPLEMENTARY INFORMATION: On October 30, 2019, the United States Patent and Trademark Office published a notice in the Federal Register requesting public input on copyright, trademark, and other intellectual property rights issues that may be impacted by AI. See Request for Comments on Intellectual Property Protection for Artificial Intelligence Innovation, 84 FR 58141 (Oct. 30, 2019). The notice requested public comments on or before December 16, 2019. Through this notice, the USPTO is extending the period for public comment until January 10, 2020, to give interested members of the public additional time to submit comments. All other information and instructions to commenters provided in the original notice remain unchanged. Previously submitted comments do not need to be resubmitted.

Dated: November 26, 2019.
Andrei Iancu,
Under Secretary of Commerce for Intellectual Property and Director of the United States Patent and Trademark Office.

[FR Doc. 2019-26104 Filed 12-2-19; 8:45 am]

BILLING CODE 3510-16-P